DEPARTMENT OF ENERGY

Federal Energy Regulatory Commission

[Project No. 7115-033]

Homestead Energy Resources, LLC; Notice Dismissing Request for Rehearing as Moot

January 16, 2003.

On October 8, 2002, the Director, Division of Hydropower Administration and Compliance (Director), issued an order denying a requested extension of time and issuing notice of probable termination of license for the George W. Andrews Project No. 7115, located on the Chattahoochee River in Houston County, Alabama, and Early County, Georgia.¹

¹ 101 FERC ¶ 62,022 (2002).

On November 6, 2002, Homestead Energy Resources, LLC, filed a timely request for rehearing of the Director's order. On December 6, 2002, the Director rescinded the October 8, 2002, order. Therefore, the request for rehearing is moot and dismissed.

This notice constitutes final agency action. Requests for rehearing by the Commission of this dismissal must be filed within 30 days of the date of issuance of this notice, pursuant to 18 CFR 385.713.

Magalie R. Salas,
Secretary.

[FR Doc. 03-1500 Filed 1-22-03; 8:45 am]

BILLING CODE 6717-01-P